DEPARTMENT OF THE INTERIOR

National Park Service

National Register of Historic Places; Notification of Pending Nominations and Related Actions

Nominations for the following properties being considered for listing or related actions in the National Register were received by the National Park Service before November 25, 2006.

Pursuant to § 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington DC 20005; or by fax, 202-371-6447. Written or faxed comments should be submitted by December 26, 2006.

John W. Roberts,
Acting Chief, National Register/National Historic Landmarks Program.

KENTUCKY

Ballard County

Trimble House, 725 N. 4th St., Wickliffe, 06001203

Bourbon County

West Millersburg Rural Historic District, Millersburg—Ruddels Mills Rd. and Steele Ford Rd., Millersburg, 06001197

Clark County

Hood-Tucker House, 19 French Ave., Winchester, 06001201

Fulton County

Whitesell, Jesse, Farm (Boundary Increase), KY 116, W of Purchase Parkway, Fulton, 06001200

Graves County

Lyles, Pete, House, 302 KY 348 E, Symsonia, 06001202

Taylor County

Campbellsville School, Stadium and Athletic Field, 230 W. Main St., Campbellsville, 06001195

Warren County

Smith Grove Historic District (Boundary Increase), Roughly bounded by Smiths Grove Cemetery, RR, Hedge St. and Kentucky St., Smiths Grove, 06001194

MISSOURI

St. Louis County

Hi-Pointe-De Mun Historic District (Boundary Increase), Roughly bounded by Clayton Rd., De Mun Ave., San Bonita Ave., and Big Bend Blvd., Clayton, 06001207

NEW YORK

Erie County

Garret Club, 91 Cleveland Ave., Buffalo, 06001212

Nash, Rev. J. Edward, Sr., House, 36 Nash St., Buffalo, 06001210

Herkimer County

Sunset Hill, 102 NY 167, Warren, 06001205

Livingston County

Sparta First Presbyterian Church, 4687 Scottsburg Rd., Groveland Station, 06001209

Oneida County

Camroden Presbyterian Church, 8049 E. Floyd Rd., Floyd, 06001204

Onondaga County

Borodino District School #8, 1845 Rose Hill Rd., Borodino, 06001206

Schenectady County

Swart House and Tavern, 130 Johnson Rd., Glenville, 06001211

Suffolk County

Wereholme, 5500 S. Bay Ave., Islip, 06001208

TENNESSEE

Obion County

Whitesell, Jesse Farm (Boundary Increase), KY 116 W of Purchase Pkwy., Fulton, 06001199

VIRGINIA

Richmond Independent City

Lee, Robert E., Monument, 1700 Monument Ave., jct. of Monument and Allen Aves., Richmond (Independent City), 06001213

WASHINGTON

Clark County

Vancouver National Historic Reserve Historic District, Roughly bounded by an alley N of Officers' Row, East Reserve St., Columbia River, and I-5, Vancouver, 06001216

King County

YWCA Building—Seattle, 1118 Fifth Ave., Seattle, 06001215

Pierce County

Balfour Dock Building, 705 Dock St., Tacoma, 06001214

To assist in the preservation of this historic property the comment period has been shortened to five (5) days:

KENTUCKY

Jefferson County

Bannon, Martin Jeff (M.J.), House, 5112 Bannon Crossing, Louisville, 06001196

[FR Doc. E6-20926 Filed 12-8-06; 8:45 am]

BILLING CODE 4312-51-P